DEPARTMENT OF THE INTERIOR

Bureau of Indian Affairs

Submission of Request to Office of Management and Budget for Extension of Self-Governance Information Collection

AGENCY: Bureau of Indian Affairs, Interior.

ACTION: Notice.

SUMMARY: The Bureau of Indian Affairs (BIA) is submitting a request to the Office of Management and Budget (OMB) to extend an information collection from potential and existing Self-Governance Tribes, as required by the Paperwork Reduction Act. The information collected under OMB Clearance Number 1076-0143 will be used to establish requirements for entry into the pool of qualified applicants for self-governance, to provide information for awarding planning and negotiation grants, and to meet reporting requirements of the Self-Governance Act.

DATES: Submit comments on or before August 11, 2006.

ADDRESSES: Written comments can be sent to: The Desk Officer for the Department of the Interior via telefacsimile at (202) 395-6566 or by e-mail to OIRA_DOCKET@omb.eop.gov. A copy should be sent to Ken Reinfeld, Office of Self-Governance, 1849 C Street, NW., Mail Stop 4622 MIB, Washington, DC 20240.

FOR FURTHER INFORMATION CONTACT: You may obtain copies of the information collection request submission and the Federal Register notice by contacting Ken Reinfeld, (202) 208-5734.

SUPPLEMENTARY INFORMATION: The Federal Register notice seeking comments from the public on a request to OMB to extend information collection activities was published in the Federal Register on January 9, 2006 (71 FR 1452). Only one comment was received that was not directly related to the notice and was addressed by making the requested change on a referenced list of contact persons. You are advised that an agency may not conduct or sponsor, and a person is not required to respond to, a collection of information that does not display a valid OMB clearance number. For the Self-Governance collection of information, the response is voluntary, to obtain or retain a benefit, depending upon the parts of the program being addressed.

The Self-Governance program was authorized by the Tribal Self-Governance Act of 1994, Public Law 103-413, as amended. Tribes interested in entering into Self-Governance must submit certain information as required by Public Law 103-413, as amended, to support their admission into Self-Governance. In addition, those tribes and tribal consortia who have entered into self-governance funding agreements will be requested to submit certain information as described in the negotiated rules published in final form on December 15, 2000 (65 FR 78688). This information will be used to justify a budget request submission on their behalf and to comport with section 405 of the Act that calls for the Secretary to submit an annual report to the Congress.

You may submit comments about the collection to evaluate the following:

(a) The accuracy of the burden hours, including the validity of the methodology used and assumptions made;

(b) The necessity of the information for proper performance of the bureau functions, including its practical utility;

(c) The quality, utility, and clarity of the information to be collected; and,

(d) Suggestions to reduce the burden including use of automated, electronic, mechanical, or other forms of information technology.

Please submit your comments to the persons listed in the ADDRESSES section. Please note that comments, names and addresses of commentators, will be available for public review during regular business hours. If you wish your name and address withheld from the public, you must state this prominently at the beginning of your comments. We will honor your request to the extent allowable by law.

OMB is required to make a decision concerning this information collection request between 30 and 60 days after publication of this document in the Federal Register. Therefore, a comment will receive the best consideration by OMB if it is submitted early during this comment period.

In this notice, BIA is soliciting comments concerning the following information collection:

OMB control number: 1076-0143.

Type of review: Renewal.

Title: Tribal Self-Governance Program, 25 CFR part 1000.

Brief description of collection: The information collected is used to establish requirements for entry into the pool of qualified applicants for self-governance, to provide information for awarding planning and negotiation grants, and to meet reporting requirements of the Self-Governance Act.

Affected Entities: Tribes and tribal consortia participating in or wishing to enter into Self-Governance.

Size of Respondent Pool: 101.

Number of Annual Responses: 219.

Hours per response: 50 hours.

Yearly hour burden: 10,882.

Dated: April 3, 2006.
Michael D. Olsen,
Acting Principal Deputy Assistant Secretary—Indian Affairs.

[FR Doc. E6-10888 Filed 7-11-06; 8:45 am]

BILLING CODE 4310-W8-P